DEPARTMENT OF DEFENSE

Department of the Air Force

Notice of Intent To Grant an Exclusive Patent License

Pursuant to the provisions of part 404 of Title 37, Code of Federal Regulations, which implements Public Law 96-517, as amended, the Department of the Air Force announces its intention to grant Hetero Technology Integration Solutions, Incorporated (HTiS), a corporation of New Hampshire, having a place of business at Newburyport, Massachusetts, an exclusive license in any right, title and interest the Air Force has in:

a. U.S. Patent No. 5,472,914 issued December 5, 1995, entitled “Wafer Joined Optoelectronic Integrated Circuits and Method,” Serial No. 274,882 and filed July 14, 1994, by Eric A. Martin, Kenneth Vaccaro, Joseph P. Lorenzo, and Andrew Davis;

b. U.S. Patent No. 5,557,120 issued September 17, 1996, entitled “Wafer Joined Optoelectronic Integrated Circuits,” Serial No. 443,915 and filed May 17, 1995, by Eric A. Martin, Kenneth Vaccaro, Joseph P. Lorenzo, and Andrew Davis;

c. U.S. Patent No. 5,639,673 issued June 17, 1997, entitled “Transparent Ohmic Contacts for Schottky Diode Optical Detectors on Thin and Inverted Epitaxial Layers,” Serial No. 486,442 and filed June 8, 1995, by Kenneth Vaccaro, Eric A. Martin, Stephen Spaziani, and Andrew Davis; and

d. U.S. Patent No. 5,689,125 issued November 18, 1997, entitled “Cadmium Sulfide Interface Layers for Improving III-V Semiconductor Device Performance and Characteristics,” Serial No. 489,601 and filed June 12, 1995, by Kenneth Vaccaro, Andrew Davis, Helen M. Dauplaise, and Joseph P. Lorenzo.

A license for this patent will be granted unless a written objection is received within 15 days from the date of publication of this Notice. Information concerning this Notice may be obtained from Mr. William H. Anderson, Associate General Counsel(Acquisition), SAF/GCQ, 1500 Wilson Blvd., Suite 304, Arlington, VA 22209-2310. Mr. Anderson can be reached at (telephone) 703-588-5090/5091 or by fax at 703-588-8037.

Janet A. Long,
Air Force Federal Register Liaison Officer.

[FR Doc. 01-30633 Filed 12-11-01; 8:45 am]

BILLING CODE 5001-05-P